FEDERAL COMMUNICATIONS COMMISSION

47 CFR Chapter I

[IB Docket No. 02-18, FCC 02-28]

Enforcement of Other Nations' Prohibitions Against the Uncompleted Call Signaling Configuration of International Call-back Service

AGENCY: Federal Communications Commission.

ACTION: Notice of proposed rulemaking.

SUMMARY: This document solicits comments on the Commission's international comity-based call-back enforcement policy. The Commission initiated this proceeding because the changes in the international telecommunications market warrant a review of the policy. The Commission believes that this proceeding will promote competition in the international telecommunications market.

DATES: Comments are due on or before April 15, 2002, and reply comments are due on or before May 15, 2002.

ADDRESSES: Federal Communications Commission, Office of the Secretary, 445 12th Street, SW., Room TW-B204F, Washington, DC 20554.

FOR FURTHER INFORMATION CONTACT: Belinda Nixon, International Bureau, (202) 418-1460.

SUPPLEMENTARY INFORMATION: This is a summary of the Commission's Notice of Proposed Rule Making (NPRM), FCC 02-28, adopted on January 30, 2002, and released on February 13, 2002. The full text of this document is available for inspection and copying during normal business hours in the Office of Media Relations, Reference Operations Division, (Room CY-A257) of the Federal Communications Commission, 445 12th Street, SW, Washington, DC 20554. The document is also available for download over the Internet at http://hraunfoss.fcc.gov/edocs_public/attachmatch/FCC-02-28A1.pdf. The complete text of this document also may be purchased from the Commission's copy contractor, Qualex, Portals II, 445 12th St., SW., Room CY-B402, Washington, DC 20054, telephone (202) 863-2893.

Summary of Notice of Proposed Rulemaking

1. On February 13, 2002, the Commission released a Notice of Proposed Rulemaking (NPRM) to review the Commission's international call-back enforcement policy. International call-back arrangements allow foreign callers to take advantage of low U.S. international services rates, many of which are significantly lower than the rates available in their home countries. Specifically, the Commission's international call-back policy extends to the uncompleted call signaling configuration of call-back. Uncompleted call signaling involves a foreign caller who dials the call-back provider's switch in the United States, waits a predetermined number of rings, and hangs up before the switch answers. The switch then automatically returns the call, and upon completion, provides the caller in the foreign country with a U.S. dialtone.

2. In a 1994 order, the Commission authorized U.S. carriers to provide call-back service. The Commission determined that international call-back serves the public interest by promoting competition in international markets and could place significant downward pressure on foreign collection rates, to the ultimate benefit of U.S. ratepayers and industry. Additionally, the Commission concluded that the provision of call-back does not violate U.S. law or international law or regulations.

3. On reconsideration, however, the Commission examined the provision of call-back in light of international comity. The Commission concluded in 1995 that the United States should assist in the enforcement of foreign laws that ban call-back. The Commission adopted a policy prohibiting U.S. carriers from offering international call-back using the completed call signaling configuration to countries where it has been expressly prohibited. Foreign governments were invited to notify the Commission of the legality of call-back within their territory. The Commission required that any notification include specific documentation of a legal restriction on international call-back using uncompleted call signaling, evidence of violations by particular carriers, and a description of enforcement measures attempted by that foreign government. The Commission maintains a public file containing the submitted material.

4. Since adopting its call-back policy in 1995, the Commission has taken significant steps to open the U.S. international market to competition and to enhance consumer benefits on U.S. international routes. Also, the global commitment to competition policy has increased dramatically. The Telecommunications Resellers Association (TRA) filed a petition requesting that the Commission adopt an NPRM to review the international call-back policy. In light of these developments and TRA's petition, the Commission initiated this proceeding to review the comity-based call-back policy.

5. Specifically, the Commission seeks comment on whether it should eliminate the existing comity-based prohibitions and thus, discontinue the policy that allows a foreign government or entity to make use of the enforcement mechanisms of the Commission to prohibit the U.S. carriers from offering one form of call-back abroad.

6. The Commission previously declared that “foreign governments bear the principal responsibility for enforcing their domestic laws, just as our mandate is to implement the statutory requirements of the Communications Act.” In the Telecommunications Act of 1966, Congress directed the Commission to provide for a pro-competitive deregulatory national framework and mandated that, with respect to domestic markets, no state or local government could prohibit an entity from offering telecommunications services. The NPRM seeks comment on the impact of the 1996 Act on the Commission's comity-based call-back policy.

7. The NPRM describes the Commission's recent initiatives to promote competition in the U.S. market for international services and enhance consumer benefits on U.S. international routes. The NPRM seeks comment on whether the balancing of interests involved in the decision to adopt the call-back policy has shifted. The NPRM concludes that the Commission should have a clear, consistent policy in favor of competition on U.S. international routes and foreign markets. This pro-competitive policy should extend to all forms of call-back. The current comity-based policy may be construed as diminishing the Commission's support for competitive forces. The NPRM seeks comment on whether it is no longer appropriate for the Commission to maintain comity-based prohibitions and engage in enforcement actions in support of foreign laws that serve to restrict competition.

8. The NPRM describes the difficulties of administering the current call-back policy. The Commission believes that eliminating the current policy would not constitute a rejection of the sovereign rights of any foreign government. The Commission does not propose to mandate that a foreign government adopts the Commission's pro-competitive policies. Rather, the NPRM seeks comment on whether we should eliminate the use of the Commission's enforcement mechanisms to restrict competition in the international services market.

9. The Commission believes that its proposal is consistent with the ITU Kyoto Declaration regarding alternative calling mechanism. The ITU Kyoto Declaration directs that a member state should “take such actions as may be appropriate within the constraints of its national law” if a carrier subject to its jurisdiction offers call-back in violation of another member state's laws. The Commission emphasizes that it continues to believe that it is in the best interest of U.S. carriers to act in a manner consistent with foreign laws. Therefore, the Commission proposes to continue to maintain a public file to inform call-back providers about the legality of call-back in foreign nations. The NPRM seeks comment on whether, given the 1996 Telecommunications Act's commitment to competition and the Commission's recent policies to promote competitive markets abroad, elimination of the existing policy that allows a foreign government or entity to make use of the enforcement mechanisms of the Commission to prohibit U.S. carriers from offering call-back abroad is an appropriate response within the constrains of U.S. law and therefore is consistence with the ITU declaration.

10. The Commission solicited comments on TRA's request for rulemaking, and it intends to incorporate those comments into this proceeding. (See Pleading Cycle Established for Comments on the Telecommunications Resellers Association Petition for Rulemaking Regarding the Commission's International Callback Policy, RM-9249, rel. March 27, 1998.)

11. The Commission believes that call-back service makes international calling more affordable in developing markets, and the NPRM describes the Commission's efforts and participation to reach developing countries. The NPRM seeks comments on what effect changing the Commission's policy would have on the provision of telecom services in developing markets.

12. Initial Regulatory Flexibility Certification. As required by the Regulatory Flexibility Act (RFA), 5 U.S.C. 6013612, as amended by the Small Business Regulatory Enforcement Fairness Act of 1996, Public Law 104-121, Title II, 110 Stat. 957, requires an initial regulatory flexibility analysis in notice-and-comment proceedings, unless the agency certifies that “the rule will not, if promulgated, have a significant economic impact on a substantial number of small entities.” The Commission is issuing this NPRM to seek comment on the possible elimination of existing comity-based prohibitions and removal of the policy that allows a foreign government or entity to use the enforcement mechanisms of the Commission.

The rule will not, if promulgated, have a significant economic impact on a substantial number of small entities.” The Commission is issuing this NPRM to seek comment on the possible elimination of existing comity-based prohibitions and removal of the policy that allows a foreign government or entity to use the enforcement mechanisms of the Commission to prohibit U.S. carriers from offering call-back abroad. The proposals do not impose any additional compliance burden on small entities dealing with the Commission. The RFA generally defines the term “small entity” as having the same meaning as the terms “small business,” “small organization,” and “small governmental jurisdiction.” In addition, the term “small business” has the same meaning as the term “small business concern” under the Small Business Act. Accordingly, we certify, pursuant to section 605(b) of the RFA, that the proposals, if promulgated, would not have a significant economic impact on a substantial number of small business entities, as defined by the RFA. The Commission's Consumer Information Bureau, Reference Information Center, shall send a copy of this Notice, including the Initial Regulatory Flexibility Certification, to the Chief Counsel for Advocacy of the Small Business Administration in accordance with section 605(b) of the RFA. This initial certification will also be published in the Federal Register.

Ordering Clauses

13. Pursuant to sections 1, 4 (j)(-j), 201(b), 214, 303(r), and 403 of the Communications Act of 1934, as amended, 47 U.S.C. 151, 154(i)(j), 201(b), 214, 303(r), and 403, this Notice of Proposed Rulemaking Is hereby adopted.

14. The Commission's Consumer Information Bureau, Reference Information Center, shall send a copy of this Notice of Proposed Rulemaking, including the regulatory flexibility certification, to the Chief Counsel for Advocacy of the Small Business Administration.

Federal Communications Commission.
William F. Caton,
Acting Secretary.

[FR Doc. 02-5381 Filed 3-7-02; 8:45 am]

BILLING CODE 6712-01-P